DEPARTMENT OF HOMELAND SECURITY

U.S. Customs and Border Protection

[1651-0140]

Collection of Advance Information From Certain Undocumented Individuals on the Land Border

AGENCY: U.S. Customs and Border Protection (CBP), Department of Homeland Security.

ACTION: 30-Day notice and request for comments; reinstatement with change of an existing collection of information.

SUMMARY: The Department of Homeland Security, U.S. Customs and Border Protection will be submitting the following information collection request to the Office of Management and Budget (OMB) for review and approval in accordance with the Paperwork Reduction Act of 1995 (PRA). The information collection is published in the Federal Register to obtain comments from the public and affected agencies.

DATES: Comments are encouraged and must be submitted (no later than January 26, 2022) to be assured of consideration.

ADDRESSES: Written comments and/or suggestions regarding the item(s) contained in this notice should be sent within 30 days of publication of this notice to www.reginfo.gov/public/do/PRAMain. Find this particular information collection by selecting “Currently under 30-day Review—Open for Public Comments” or by using the search function.

FOR FURTHER INFORMATION CONTACT: Requests for additional PRA information should be directed to Seth Renkema, Chief, Economic Impact Analysis Branch, U.S. Customs and Border Protection, Office of Trade, Regulations and Rulings, 90 K Street NE, 10th Floor, Washington, DC 20229-1177, Telephone number 202-325-0056 or via email CBP_PRA@cbp.dhs.gov. Please note that the contact information provided here is solely for questions regarding this notice. Individuals seeking information about other CBP programs should contact the CBP National Customer Service Center at 877-227-5511, (TTY) 1-800-877-8339, or CBP website at https://www.cbp.gov/.

SUPPLEMENTARY INFORMATION: CBP invites the general public and other Federal agencies to comment on the proposed and/or continuing information collections pursuant to the Paperwork Reduction Act of 1995 (44 U.S.C. 3501 et seq.). This proposed information collection was previously published in the Federal Register (Volume 86 FR Page 53667) on September 28, 2021, allowing for a 60-day comment period. This notice allows for an additional 30 days for public comments. This process is conducted in accordance with 5 CFR 1320.8. Written comments and suggestions from the public and affected agencies should address one or more of the following four points: (1) Whether the proposed collection of information is necessary for the proper performance of the functions of the agency, including whether the information will have practical utility; (2) the accuracy of the agency's estimate of the burden of the proposed collection of information, including the validity of the methodology and assumptions used; (3) suggestions to enhance the quality, utility, and clarity of the information to be collected; and (4) suggestions to minimize the burden of the collection of information on those who are to respond, including through the use of appropriate automated, electronic, mechanical, or other technological collection techniques or other forms of information technology, e.g., permitting electronic submission of responses. The comments that are submitted will be summarized and included in the request for approval. All comments will become a matter of public record.

Overview of This Information Collection

Title: Collection of Advance Information from Certain Undocumented Individuals on the Land Border.

OMB Number: 1651-0140.

Form Number: N/A.

Current Actions: Reinstatement with change.

Type of Review: Reinstatement with change.

Affected Public: Individuals.

Abstract: The Department of Homeland Security (DHS), in consultation with U.S. Customs and Border Protection (CBP), has established a process to streamline the processing of undocumented noncitizens under Title 8 of the United States Code at certain ports of entry (POEs), as these individuals require secondary processing upon their arrival, which takes longer than when individuals arrive with sufficient travel documentation.

CBP is proposing extending and amending this data collection, which was established on an emergency basis on May 3, 2021. This data collection expands on the previous collection process for persons who may warrant an exception to the CDC's Order Suspending the Right To Introduce Certain Persons from Countries Where a Quarantinable Communicable Disease Exists (“CDC Order”) (85 FR 65806), to include undocumented noncitizens who will be processed under Title 8 at the time they arrive at the POE after the CDC Order is rescinded, in whole or in part. The purpose is to continue to achieve efficiencies to process undocumented noncitizens under Title 8 upon their arrival at the POE, consistent with public health protocols, space limitations, and other restrictions.

CBP collects certain biographic and biometric information from undocumented noncitizens prior to their arrival at a POE, to streamline their processing at the POE. The requested information is that which CBP would otherwise collect from these individuals during primary and/or secondary processing. This information is voluntarily provided by undocumented noncitizens, directly or through non-governmental organizations (NGOs) and international organizations (IOs). Providing this information is not a prerequisite for processing under Title 8, but reduces the amount of data entered by CBP Officers (CBPOs) and the length of time an undocumented noncitizen remains in CBP custody.

The biographic and biometric information being collected in advance, that would otherwise be collected during primary and/or secondary processing at the POEs includes, but is not limited to, descriptive information such as: Name, Date of Birth, Country of Birth, City of Birth, Country of Residence, Contact Information, Addresses, Nationality, Employment history (optional), Travel history, Emergency Contact (optional), U.S. and foreign addresses, Familial Information (optional), Marital Status (optional), Identity Document (not a Western Hemisphere Travel Initiative (WHTI) compliant document) (optional), Gender, Preferred Language, Height, Weight, Eye color and Photograph.

This information is submitted to CBP by undocumented noncitizens (directly or through NGOs and IOs) on a voluntary basis, for the purpose of facilitating and implementing CBP's mission. This collection is consistent with DHS' and CBP's authorities, including under 6 U.S.C. 202 and 211(c). Pursuant to these sections, DHS and CBP are generally charged with “[s]ecuring the borders, territorial waters, ports, terminals, waterways, and air, land, and sea transportation systems of the United States,” and “implement[ing] screening and targeting capabilities, including the screening, reviewing, identifying, and prioritizing of passengers and cargo across all international modes of transportation, both inbound and outbound.”

Proposed Changes:

This information collection is being changed to require the submission of the photograph—previously optional—for all who choose to provide advance information. The submission of a photograph in advance will provide CBPOs with a mechanism to match a noncitizen who arrives at the POE with the photograph submitted in advance, therefore identifying those individuals, and verifying their identity. The photograph is particularly important for identity verification once NGOs/IOs are no longer facilitating the presentation of all individuals for CBP processing (NGOs/IOs will be able to continue assisting for some individuals but others will be able to participate on their own).

CBP will also allow individuals to request to present themselves for processing at a specific POE on a specific day and time, although such a request does not guarantee that an individual will be processed at a given time. Individuals will have the opportunity to modify their requests within the CBP One™ application to an alternate day or time. In all cases, CBP will inspect, and process individuals based on available capacity at the POE. This new functionality does not require the collection of new Personal Identifiable Information (PII) data elements.

Type of Information Collection: Advance Information on Undocumented Travelers.

Estimated Number of Respondents: 91,250.

Estimated Number of Annual Responses per Respondent: 1.

Estimated Number of Total Annual Responses: 91,250.

Estimated Time per Response: 16 minutes.

Estimated Total Annual Burden Hours: 24,333.

Dated: December 21, 2021.
Seth D. Renkema,
Branch Chief, Economic Impact Analysis Branch, U.S. Customs and Border Protection.

[FR Doc. 2021-28005 Filed 12-23-21; 8:45 am]

BILLING CODE P